DEPARTMENT OF HEALTH AND HUMAN SERVICES

Centers for Medicare & Medicaid Services

Statement of Organization, Functions, and Delegations of Authority

Part F of the Statement of Organization, Functions, and Delegations of Authority for the Department of Health and Human Services, Centers for Medicare & Medicaid Services (CMS), (Federal Register, Vol. 62, No. 85, pp. 24121-24122 dated May 2, 1997 and Federal Register, Vol. 67, No. 17, p. 3721 dated January 25, 2002) is amended to reflect changes to the Office of Strategic Planning (OSP), Office of Communications and Operations Support (OCOS), and the Office of Information Services (OIS). Specifically, OSP is retitled as the Office of Research, Demonstration, and Information and the Division of Freedom of Information (DFI) is realigned from OIS to OCOS. The transfer of DFI will consolidate responsibility for coordination and oversight of all public inquiry functions within OCOS.

The specific amendments to part F are described below:

• Section F.10. (Organization) is amended to read as follows:

1. Public Affairs Office (FAC)

2. Center for Beneficiary Choices (FAE)

3. Office of Legislation (FAF)

4. Center for Medicare Management (FAH)

5. Office of Equal Opportunity and Civil Rights (FAJ)

6. Office of Research, Demonstration, and Information (FAK)

7. Office of Communications and Operations Support (FAL)

8. Office of Clinical Standards and Quality (FAM)

9. Office of the Actuary (FAN)

10. Center for Medicaid and State Operations (FAS)

11. Northeastern Consortium (FAU)

12. Southern Consortium (FAV)

13. Midwestern Consortium (FAW)

14. Western Consortium (FAX)

15. Office of Internal Customer Support (FBA)

16. Office of Information Services (FBB)

17. Office of Financial Management (FBC)

• Section F.20. (Functions) is amended by deleting the functional statements in their entirety for the Office of Communications and Operations Support and the Office of Information Services. The new functional statements read as follows:

7. Office of Communications and Operations Support (FAL)

• Serves a neutral broker coordination role, including scheduling meetings and briefings for the Administrator and coordinating communications between and among central and regional offices, in order to ensure that emerging issues are identified early, all concerned components are directly and fully involved in policy development/decision making, and that all points of view are presented.

• Coordinates and monitors assigned Agency initiatives which are generally tactical, short-term, and cross-component in nature (e.g., legislative implementation).

• Provides operational and analytical support to the Senior Leadership.

• Manages speaking and meeting requests for or on behalf of the Administrator and Deputy Administrator and researches and writes speeches.

• Coordinates agency-wide communication policies for correspondence, manuals, regulations, and responses to audits.

• Coordinates the preparation of manuals and other policy instructions to insure accurate and consistent implementation of the Agency's programs.

• Manages the Agency's system for developing, clearing and tracking regulations, setting regulation priorities and corresponding work agendas; coordinates the review of regulations received for concurrence from departmental and other government agencies and develops routine and special reports on the Agency's regulatory activities.

• Manages the agency-wide clearance system to insure appropriate involvement from Agency components and serves as a primary focal point for liaison with the Executive Secretariat in the Office of the Secretary.

• Operates the agency-wide correspondence tracking and control system and provides guidance and technical assistance on standards for content of correspondence and memoranda.

• Provides management and administrative support to the Office of the Attorney Advisor and staff.

• Acts as audit liaison with the General Accounting Office (GAO) and the HHS Office of Inspector General (OIG).

• Develops and maintains agency-wide executive management information reporting and tracking systems (including the Management Reform Initiative and Reports to Congress) significant item reports, legislative (Balanced Budget Act) implementation, and management information reports for the Office of the Administrator.

• Acts as the Committee Management Official for CMS under the Federal Advisory Committee Act (FACA).

• Develops standard processes for all CMS FACA committees and provides operational and logistical support to CMS components for conferences and on all matters relating to Federal Advisory Committees.

• Conducts activities necessary to the receipt, management, response, and reporting requirements of the Department under the Freedom of Information Act (FOIA) regarding all requests received by CMS.

• Maintains a log of all FOIA requests received by the central office, refers requests to the appropriate components within headquarters, the regions or among carriers and intermediaries for the collection of the documents requested. Makes recommendations and prepares replies to requesters, including denials of information as permitted under FOIA, and drafts briefing materials and responses in connection with appeals of denial decisions.

• Directs the maintaining and amending of CMS-wide records for confidentiality and disclosure to the Privacy Act to include: planning, organizing, initiating and controlling privacy matching assignments.

10. Office of Information Services (FBB)

• Serves as the focal point for the responsibilities of the Agency's Chief Information Officer in planning, organizing, and coordinating the activities required to maintain an agency-wide Information Resources Management (IRM) program.

• Ensures the effective management of the Agency's information technology, and information systems and resources (e.g., implementation and administration of a change management process).

• Provides workstation, server, and local area network support for CMS-wide activities. Works with customer components to develop requirements, needs and cost benefit analysis in support of the LAN infrastructure including hardware, software and office automation services.

• Serves as the lead for developing and enforcing the Agency's information architecture, policies, standards, and practices in all areas of information technology.

• Develops and maintains enterprise-wide central databases, statistical files, and general access paths, ensuring the quality of information maintained in these data sources.

• Directs Medicare claims payment systems activities, including CWF operation, as well as systems conversion activities.

• Develops ADP standards and policies for use by internal CMS staff and contractor agents in such areas as applications development and use of the infrastructure resources.

• Manages and directs the operation of CMS hardware infrastructure, including the Agency's Data Center, data communications networks, enterprise infrastructure, voice/data switch, audio conferencing and other data centers supporting CMS programs.

• Leads the coordination, development, implementation and maintenance of health care information standards in the health care industry.

• Provides Medicare and Medicaid information to the public, within the parameters imposed by the Privacy Act.

• Performs information collection analyses as necessary to satisfy the requirements of the Paperwork Reduction Act.

• Directs CMS's ADP systems security program with respect to data, hardware, and software.

• Directs and advises the Administrator, senior staff, and components on the requirements, policies, and administration of the Privacy Act.

Dated: March 27, 2002.
Thomas A. Scully,
Administrator, Centers for Medicare & Medicaid Services.

[FR Doc. 02-9206 Filed 4-25-02; 8:45 am]

BILLING CODE 4120-01-P